DEPARTMENT OF HEALTH AND HUMAN SERVICES

Health Resources and Services Administration

Advisory Committee; Notice of Meeting

In accordance with section 10(a)(2) of the Federal Advisory Committee Act (Public Law 92-463), announcement is made of the following National Advisory body scheduled to meet during the month of February 2001.

The National Advisory Committee on Rural Health will convene its thirty-seventh meeting at the time and place specified below:

Name: National Advisory Committee on Rural Health.

Date and Time: February 4, 2001; 2:00 p.m.-4:45 p.m.; February 5, 2001; 8:30 a.m.-4:45 p.m.; and February 6, 2001; 8:30 a.m.-4:15 a.m.

Place: Washington Court Hotel, 525 New Jersey Avenue, NW., Washington, DC 20001, Phone: (202) 628-2100.

The meeting is open to the public.

Purpose: The National Advisory Committee on Rural Health provides advice and recommendations to the Secretary with respect to the delivery, research, development, and administration of health care services in rural areas.

Agenda: Sunday, February 4, at 2:00 p.m. the chairperson, Senator Nancy Kassebaum Baker will open the meeting and welcome the committee members. The new director of the Office of Rural Health Policy (ORHP) will give an update on office activities. The first plenary session will be a presentation on the Medicare Reform Report. The day will close at 4:45 PM.

Monday morning at 8:30 a.m., there will be presentations on federally qualified health centers and rural health clinics. After lunch, there will be a presentation on what the States are doing about the uninsured. The day will close at 4:45 PM.

Tuesday morning at 8:30 am, the Committee will discuss report recommendations. There will be a presentation on rural public health, and an update on Health Care Financing Administration (HCFA) activities. After lunch, additional presentations and discussion on the uninsured. At the end of the day the Committee will discuss future activities and next meeting. The meeting will be adjourned at 4:15 PM.

Anyone requiring information regarding the Committee should contact Marcia K. Brand, Ph.D., Executive Secretary, National Advisory Committee on Rural Health, Health Resources and Services Administration, Room 9A-55, Parklawn Building, 5600 Fishers Lane, Rockville, MD 20857, telephone (301) 443-0835, FAX (301) 443-2803.

Persons interested in attending any portion of the meeting should contact Sandi Lyles or Lilly Smetana, Office of Rural Health Policy, (301) 443-0835. The National Advisory Committee meeting agenda will be posted on ORHP's website, www.ruralhealth.hrsa.gov.

Dated: January 16, 2001.
Jane M. Harrison,
Director, Division of Policy Review and Coordination.

[FR Doc. 01-1714 Filed 1-19-01; 8:45 am]

BILLING CODE 4160-15-P